SECURITIES AND EXCHANGE COMMISSION

[SEC File No. 270-822, OMB Control No. 3235-0777]

Proposed Collection; Comment Request; Extension: Rules 15Fi-3 Through 15Fi-5

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in Rules 15Fi-3 through 15Fi-5 (17 CFR 240.15Fi-3 through 240.15Fi-5), under the Securities Exchange Act of 1934 (15 U.S.C. 78a et seq.). The Commission plans to submit this existing collection of information to the Office of Management and Budget (“OMB”) for extension and approval.

Rules 15Fi-3 through 15Fi-5 (17 CFR 240.15Fi-3 through 240.15Fi-5) under the Securities Exchange Act of 1934 (15 U.S.C. 78a et seq.) require registered security-based swap dealers (“SBS dealer”) and registered major security-based swap participants (“major SBS participant”) (each SBS dealer and each major SBS participant hereafter referred to as an “SBS Entity”) to apply specific risk mitigation techniques to portfolios of security-based swaps not submitted for clearing. Rules 15Fi-3 through 15Fi-5 impose a collection of information requirements on SBS Entities. Specifically, Rule 15Fi-3 requires SBS Entities to reconcile outstanding security-based swaps with applicable counterparties on a periodic basis. Rule 15Fi-4 requires SBS Entities to engage in certain forms of portfolio compression exercises with their counterparties, as appropriate. Rule 15Fi-5 requires SBS Entities to execute written security-based swap trading relationship documentation with each of its counterparties prior to, or contemporaneously with, executing a security-based swap transaction, and to periodically audit the policies and procedures governing such documentation.

Rules 15Fi-3 through 15Fi-5 have been promulgated pursuant to Section 15F(i)(2) of the Exchange Act, which requires that the Commission “adopt rules governing documentation standards for security-based swap dealers and major security-based swap participants.” Accordingly, the collections of information are at the heart of each of the underlying documentation requirements of the rules, such that not conducting them (or reducing the frequency of collection) would not be consistent with the statutory provisions. Moreover, the policies and procedures required to be established, maintained, and followed pursuant to Rules 15Fi-3 through 15Fi-5 are instrumental in focusing and assessing compliance with the underlying rules, consistent with how similar requirements are used in numerous other Commission rules. Thus, eliminating such collections (or reducing the frequency of collection) also would be inconsistent with the applicable statutory provisions and the intended effects of the rules.

The Commission estimated that approximately 53 entities may fit within the definition of SBS dealer, and up to five entities may fit within the definition of major SBS participant. Thus, the Commission estimated that approximately 58 entities would be required to register with the Commission as SBS Entities and would be subject to Rules 15Fi-3 through 15Fi-5. Of the 58 entities that would be required to register with the Commission as SBS Entities, the Commission estimated that approximately 20 would be dually-registered with the Commodity Futures Trading Commission (“CFTC”) as swap dealers or major swap participants. As the Rules 15Fi-3 through 15Fi-5 are largely similar to those adopted by the CFTC, dually-registered entities may have procedures and systems in place to collect the information, thereby minimizing compliance burdens. The Commission estimated that the total annual industry burden under 15Fi-3 through 15Fi-5 is approximately 464,836 hours per year.

Written comments are invited on: (a) whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by August 30, 2024.

An agency may not conduct or sponsor, and a person is not required to respond to, a collection of information unless it displays a currently valid OMB control number.

Please direct your written comments to: David Bottom, Director/Chief Information Officer, Securities and Exchange Commission, c/o John Pezzullo, 100 F Street NE, Washington, DC 20549, or send an email to: PRA_Mailbox@sec.gov.

Dated: June 26, 2024.
Sherry R. Haywood,
Assistant Secretary.

[FR Doc. 2024-14482 Filed 7-1-24; 8:45 am]

BILLING CODE 8011-01-P